FEDERAL ELECTION COMMISSION

11 CFR Part 104

[Notice 2000-20]

Election Cycle Reporting by Authorized Committees

AGENCY: Federal Election Commission.

ACTION: Final rule; announcement of effective date.

SUMMARY: On July 11, 2000, the Commission published the text of revisions to the regulations requiring authorized committees of federal candidates to aggregate, itemize and report all receipts and disbursements on an election-cycle basis rather than on a calendar-year-to-date basis. The Commission announces that these rules are effective as of January 1, 2001.

DATES: Effective January 1, 2001.

Applicability date: Reporting periods beginning on or after January 1, 2001.

FOR FURTHER INFORMATION CONTACT: Ms. Rosemary C. Smith, Assistant General Counsel, or Ms. Cheryl A. Fowle, Attorney, 999 E Street, NW., Washington, DC 20463, (202) 694-1650 or toll free (800) 424-9530.

SUPPLEMENTARY INFORMATION: The Commission is announcing the effective date of revisions to the regulations at 11 CFR 104.3, 104.7, 104.8 and 104.9 requiring authorized committees of federal candidates to aggregate, itemize and report all receipts and disbursements on an election-cycle basis. See Explanation and Justification for Election Cycle Reporting by Authorized Committees, 65 FR 42619 (July 11, 2000). These rules implement a 1999 amendment to the Federal Election Campaign Act at 2 U.S.C. 434(b). Pub. L. 106-58, 106th Cong. 1st Sess., sec. 641, 113 Stat. 430, 477 (1999). The statutory amendment and the regulations apply only to the authorized committees of federal candidates.

While the amendment required all types of disbursements including operating expenditures to be aggregated and reported on an election-cycle basis, it does not require that each itemizable operating expenditure be reported on an election-cycle basis. Thus, the amendment could be interpreted to mean that operating expenditures would be reported on the summary pages on an election-cycle basis and itemized on Schedule B on a calendar-year basis. However, the Commission's final rules construed the statutory amendment to require all disbursements, including operating expenditures, to be both aggregated on the summary page and itemized on Schedule B on an election-cycle basis. The Commission believes this regulatory interpretation is necessary because it would be extremely burdensome, and possibly unworkable, for authorized committees to itemize these expenditures on a calendar year basis and, at the same time, report total amounts on an election-cycle-to-date basis in the same report.

Section 438(d) of Title 2, United States Code requires that any rules or regulations prescribed by the Commission to carry out the provisions of Title 2 of the United States Code be transmitted to the Speaker of the House of Representatives and the President of the Senate thirty legislative days prior to final promulgation. These rules were transmitted to Congress July 6, 2000. Thirty legislative days expired in the Senate on September 26, 2000, and the House of Representatives on October 3, 2000.

The Commission also revised its forms, specifically the Detailed Summary Page and Schedule B for FEC Forms 3 and 3P, to facilitate the reporting of all expenditures by authorized committees on an election cycle basis. In accordance with 2 U.S.C. 438(d), these forms were transmitted to Congress on September 15, 2000, and ended their ten legislative day period on September 29, 2000, in the House of Representatives and on October 2, 2000, in the Senate. The revised forms will also be used for reporting periods beginning on or after January 1, 2001.

Dated: November 21, 2000.
Danny L. McDonald,
Vice Chairman, Federal Election Commission.

[FR Doc. 00-30152 Filed 11-24-00; 8:45 am]

BILLING CODE 6715-01-P